Title 3—

The President

Proclamation 8750 of November 1, 2011

Establishment of the Fort Monroe National Monument

By the President of the United States of America

A Proclamation

Known first as “The Gibraltar of the Chesapeake” and later as “Freedom’s Fortress,” Fort Monroe on Old Point Comfort in Virginia has a storied history in the defense of our Nation and the struggle for freedom.

Fort Monroe, designed by Simon Bernard and built of stone and brick between 1819 and 1834 in part by enslaved labor, is the largest of the Third System of fortifications in the United States. It has been a bastion of defense of the Chesapeake Bay, a stronghold of the Union Army surrounded by the Confederacy, a place of freedom for the enslaved, and the imprisonment site of Chief Blackhawk and the President of the Confederacy, Jefferson Davis. It served as the U.S. Army’s Coastal Defense Artillery School during the 19th and 20th centuries, and most recently, as headquarters of the U.S. Army’s Training and Doctrine Command.

Old Point Comfort in present day Hampton, Virginia, was originally named “Pointe Comfort” by Captain John Smith in 1607 when the first English colonists came to America. It was here that the settlers of Jamestown established Fort Algernon in 1609. After Fort Algernon’s destruction by fire in 1612, successive English fortifications were built, testifying to the location’s continuing strategic value. The first enslaved Africans in England’s colonies in America were brought to this peninsula on a ship flying the Dutch flag in 1619, beginning a long ignoble period of slavery in the colonies and, later, this Nation. Two hundred and forty-two years later, Fort Monroe became a place of refuge for those later generations escaping enslavement.

During the Civil War, Fort Monroe stood as a foremost Union outpost in the midst of the Confederacy and remained under Union Army control during the entire conflict. The Fort was the site of General Benjamin Butler’s “Contraband Decision” in 1861, which provided a pathway to freedom for thousands of enslaved people during the Civil War and served as a forerunner of President Abraham Lincoln’s Emancipation Proclamation of 1863. Thus, Old Point Comfort marks both the beginning and end of slavery in our Nation. The Fort played critical roles as the springboard for General George B. McClellan’s Peninsula Campaign in 1862 and as a crucial supply base for the siege of Petersburg by Union forces under General Ulysses S. Grant in 1864 and 1865. After the surrender of the Confederacy, Confederate President Jefferson Davis was transferred to Fort Monroe and remained imprisoned there for 2 years.

Fort Monroe is the third oldest United States Army post in continuous active service. It was designated a National Historic Landmark in 1960 and it is listed on the National Register of Historic Places. It provides an excellent opportunity for the public to observe and understand Chesapeake Bay and Civil War history. At the northern end of the North Beach area lies the only undeveloped shoreline remaining on Old Point Comfort, providing modern-day visitors a sense of what earlier people saw when they arrived in the New World. The North Beach area also includes coastal defensive batteries, including Batteries DeRussy and Church, which were used from the 19th Century to World War II.

WHEREAS section 2 of the Act of June 8, 1906 (34 Stat. 225, 16 U.S.C. 431) (the “Antiquities Act”), authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected;

WHEREAS the 2005 Defense Base Closure and Realignment Commission recommended that Fort Monroe cease to be used as an Army installation, and pursuant to the Defense Base Closure and Realignment Act of 1990 (Public Law 101-510), Fort Monroe closed on September 15, 2011;

WHEREAS the Governor of the Commonwealth of Virginia, Members of Congress, the Fort Monroe Authority, the City of Hampton, Virginia, and other surrounding counties and cities have expressed support for establishing a unit of the National Park System at Fort Monroe;

WHEREAS it is in the public interest to preserve Fort Monroe, portions of Old Point Comfort, and certain lands and buildings necessary for the care and management of the Fort and Point as the Fort Monroe National Monument;

NOW, THEREFORE, I, BARACK OBAMA, President of the United States of America, by the authority vested in me by section 2 of the Antiquities Act, hereby proclaim that all lands and interests in lands owned or controlled by the Government of the United States within the boundaries described on the accompanying map, which is attached to and forms a part of this proclamation, are hereby set apart and reserved as the Fort Monroe National Monument (monument) for the purpose of protecting the objects identified above. The reserved Federal lands and interests in lands encompass approximately 325.21 acres, together with appurtenant easements for all necessary purposes, which is the smallest area compatible with the proper care and management of the objects to be protected.

All Federal lands and interests in lands within the boundaries of this monument are hereby appropriated and withdrawn from all forms of entry, location, selection, sale, leasing, or other disposition under the public land laws, including withdrawal from location, entry, and patent under the mining laws, and from disposition under all laws relating to mineral and geothermal leasing. Lands and interests in lands within the monument’s boundaries not owned or controlled by the United States shall be reserved as part of the monument upon acquisition of ownership or control by the United States.

The lands and interests in lands within the monument’s boundaries, except for the Old Point Comfort Lighthouse, are currently managed by the Secretary of the Army. The Secretaries of the Army and the Interior shall enter into a memorandum of agreement that identifies and assigns the responsibilities of each agency related to such lands and interests in lands, the implementing actions required of each agency, the processes for transferring administrative jurisdiction over such lands and interests in lands to the Secretary of the Interior, and the processes for resolving interagency disputes. After issuance of this proclamation, the Secretary of the Army, in consultation with the Secretary of the Interior, acting through the National Park Service, will continue to manage the lands and interests in lands within the monument boundaries, to the extent they remain in the ownership or control of the Government of the United States, until the transfer to the Secretary of the Interior is completed in accordance with the memorandum of agreement. The Secretary of the Interior shall then manage the monument through the National Park Service, pursuant to applicable legal authorities, consistent with the purposes and provisions of this proclamation, and in accordance with the memorandum of agreement.

The Old Point Comfort Lighthouse shall continue to be managed by the Secretary of Homeland Security. Not later than 1 year after the date of this proclamation, the Secretary of the Interior and the Secretary of Homeland Security shall enter into an interagency agreement that, to the extent requested by the United States Coast Guard, provides for appropriate National Park Service interpretation of the Old Point Comfort Lighthouse for the public and for technical or financial assistance by the National Park Service for building treatment and other preservation activities. Nothing in this proclamation shall limit or interfere with the authority of the Secretary of Homeland Security to use the Old Point Comfort Lighthouse for navigational or national security purposes.

For the purpose of preserving, restoring, and enhancing the public visitation and appreciation of the monument, the Secretary of the Interior shall prepare a management plan for the monument within 3 years of the date of this proclamation. The management plan will ensure that the monument fulfill the following purposes for the benefit of present and future generations: (1) to preserve historic, natural, and recreational resources; (2) to provide land- and water-based recreational opportunities; and (3) to communicate the historical significance of the monument as described above. The management plan shall, among other provisions, set forth the desired relationship of the monument to other related resources, programs, and organizations in the Hampton area and other locations, provide for maximum public involvement in its development, and identify steps to be taken to provide interpretive opportunities for the entirety of the Fort Monroe National Historic Landmark and related sites in Hampton, Virginia. In developing the management plan, the Secretary of the Interior shall consider the Fort Monroe Reuse Plan, the Fort Monroe Programmatic Agreement dated April 27, 2009 (and any amendments to the agreement), and the Commonwealth of Virginia Fort Monroe Authority Act. Further, to the extent authorized by law, the Secretary of the Interior shall promulgate any additional regulations needed for the proper care and management of the monument.

The establishment of this monument is subject to valid existing rights. To the extent that the Commonwealth of Virginia holds any reversionary rights in any Federal lands or interests in lands within the boundaries of this monument, those rights are preserved and may operate or be exercised in due course without affecting the existence or designated boundaries of the monument. The Governor of the Commonwealth of Virginia and the Fort Monroe Authority, which would have responsibility for such lands and interests in lands upon their reversion, have agreed in principle to then relinquish to the United States ownership or control of those lands and interests in lands, as stated in the Governor’s letter agreement of September 9, 2011. The Secretary of the Interior shall accept the relinquishment of such lands and interests in lands on behalf of the Government of the United States, at which point such lands and interests in lands, reserved pursuant to this proclamation, shall be managed by the Secretary of the Interior, through the National Park Service, pursuant to applicable legal authorities, consistent with the purposes and provisions of this proclamation, and in accordance with the memorandum of agreement.

Nothing in this proclamation shall affect the responsibilities of the Department of the Army under applicable environmental laws, including the remediation of hazardous substances or munitions and explosives of concern within the monument boundaries; nor affect the Department of the Army’s statutory authority to control public access or statutory responsibility to make other measures for environmental remediation, monitoring, security, safety or emergency preparedness purposes; nor affect any Department of the Army activities on lands not included within the monument.

Nothing in this proclamation shall be deemed to revoke any existing withdrawal, reservation, or appropriation; however, the monument shall be the dominant reservation.

Warning is hereby given to all unauthorized persons not to appropriate, injure, destroy, or remove any feature of this monument and not to locate or settle upon any of the lands thereof.

IN WITNESS WHEREOF, I have hereunto set my hand this first day of November in the year of our Lord two thousand eleven, and of the Independence of the United States of America the two hundred and thirty-sixth.

Billing code 3295-F2-P

[FR Doc. 2011-28926

Filed 11-4-11; 8:45 am]

Billing code 4310-10-C